DEPARTMENT OF THE TREASURY

Submission for OMB Review; Comment Request

October 18, 2012.

The Department of the Treasury will submit the following information collection request to the Office of Management and Budget (OMB) for review and clearance in accordance with the Paperwork Reduction Act of 1995, Public Law 104-13, on or after the date of publication of this notice.

DATES: Comments should be received on or before November 23, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0098.

Type of Review: Revision of a currently approved collection.

Title: Claim for Relief on Account of the Non-receipt of United States Savings Bonds.

Form: PD F 3062-4.

Abstract: Application by owner to request a substitute savings bond or payment in lieu of bond not received.

Affected Public: Individuals or Households.

Estimated Total Burden Hours: 2,505.

Robert Dahl,
Treasury PRA Clearance Officer.

[FR Doc. 2012-26121 Filed 10-23-12; 8:45 am]

BILLING CODE 4810-39-P